DEPARTMENT OF ENERGY

Federal Energy Regulatory Commission

Combined Notice of Filings

Take notice that the Commission has received the following Natural Gas & Oil Pipeline Rate and Refund Report filings:

Filings Instituting Proceedings

Docket Numbers: PR23-44-000.

Applicants: Moss Bluff Hub, LLC.

Description: § 284.123 Rate Filing: Moss Bluff—TPGS Acquisition Notification to be effective N/A.

Filed Date: 4/13/23.

Accession Number: 20230413-5121.

Comment Date: 5 p.m. ET 5/4/23.

Docket Numbers: RP23-682-000.

Applicants: Natural Gas Pipeline Company of America LLC.

Description: § 4(d) Rate Filing: Negotiated Rate Agreement Filing—Amend Macquarie Energy SP149963 to be effective 4/14/2023.

Filed Date: 4/13/23.

Accession Number: 20230413-5101.

Comment Date: 5 p.m. ET 4/25/23.

Docket Numbers: RP23-683-000.

Applicants: Egan Hub Storage, LLC.

Description: Compliance filing: Egan—TPGS Acquisition Notification to be effective N/A.

Filed Date: 4/13/23.

Accession Number: 20230413-5120.

Comment Date: 5 p.m. ET 4/25/23.

Docket Numbers: RP23-684-000.

Applicants: Steckman Ridge, LP.

Description: Compliance filing: Steckman—TPGS Acquisition Notification to be effective N/A.

Filed Date: 4/13/23.

Accession Number: 20230413-5123.

Comment Date: 5 p.m. ET 4/25/23.

Docket Numbers: RP23-685-000.

Applicants: Bobcat Gas Storage.

Description: Compliance filing: Bobcat—TPGS Acquisition Notification to be effective N/A.

Filed Date: 4/13/23.

Accession Number: 20230413-5124.

Comment Date: 5 p.m. ET 4/25/23.

Docket Numbers: RP23-686-000.

Applicants: Tres Palacios Gas Storage LLC.

Description: Compliance filing: Tres Palacios Acquisition Notification Filing to be effective N/A.

Filed Date: 4/13/23.

Accession Number: 20230413-5127.

Comment Date: 5 p.m. ET 4/25/23.

Docket Numbers: RP23-687-000.

Applicants: Gulf South Pipeline Company, LLC.

Description: § 4(d) Rate Filing: Amendment to Neg Rate Agmt (Chevron 41610 eff 4-14-23) to be effective 4/14/2023.

Filed Date: 4/14/23.

Accession Number: 20230414-5009.

Comment Date: 5 p.m. ET 4/26/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP19-73-008.

Applicants: El Paso Natural Gas Company, L.L.C.

Description: Compliance filing: Rate Case Settlement Implementation Filing to be effective 5/13/2023.

Filed Date: 4/13/23.

Accession Number: 20230413-5092.

Comment Date: 5 p.m. ET 4/25/23.

Docket Numbers: RP22-501-006.

Applicants: ANR Pipeline Company.

Description: Compliance filing: ANR Rate Case—Compliance to Settlement Agreement to be effective 8/1/2022.

Filed Date: 4/14/23.

Accession Number: 20230414-5048.

Comment Date: 5 p.m. ET 4/26/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 14, 2023.
Debbie-Anne A. Reese,
Deputy Secretary.

[FR Doc. 2023-08347 Filed 4-19-23; 8:45 am]

BILLING CODE 6717-01-P